DEPARTMENT OF VETERANS AFFAIRS

Privacy Act of 1974; System of Records

AGENCY: Department of Veterans Affairs (VA).

ACTION: Notice of Amendment to Systems of Records.

SUMMARY: As required by the Privacy Act of 1974, 5 U.S.C. 552a(e), Notice is hereby given that the Department of Veteran Affairs (VA) is amending the system of records entitled “Enrollment and Eligibility Records—VA” (147VA16) as set forth in 73 FR 15847-15852, March 25, 2008 to add a routine use relating to computer matching activities.

DATES: Comments on the amendment of this system of records must be received no later than September 30, 2009. If no public comment is received, the amended system will become effective September 30, 2009.

ADDRESSES: Written comments may be submitted through www.Regulations.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at www.Regulations.gov.

FOR FURTHER INFORMATION CONTACT: Veterans Health Administration (VHA) Privacy Officer, Department of Veterans Affairs, 810 Vermont Avenue, NW., Washington, DC 20420; telephone (704) 245-2492.

SUPPLEMENTARY INFORMATION: VA provides health care services to many of America's Veterans through the Veterans Health Administration. During the course of providing health care, VHA collects medical and health information on veterans. In order to protect Veterans' medical or health information VHA is adding one routine use to one existing system of records (147VA16).

Additional Routine Use

The routine use added to 147VA16 would allow VA to conduct computer matching activities with other Federal agencies where necessary to assist VA in determining or verifying eligibility for certain benefits.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Approved: August 14, 2009.
John R. Gingrich,
Chief of Staff, Department of Veterans Affairs.

Notice of Amendment of Systems of Records

1. In the system identified as 147VA16, “Enrollment and Eligibility Records—VA”, as set forth in 73 FR 15847-15852, March 25, 2008. One new routine use is added as follows:

147VA16

SYSTEM NAME:

Enrollment and Eligibility Records—VA.

* * * * *

ROUTINE USES OF RECORDS MAINTAINED IN THE SYSTEM, INCLUDING CATEGORIES OF USERS AND THE PURPOSES OF SUCH USES:

* * * * *

14. Identifying information, including social security number of Veterans, spouse(s) of Veterans, and dependents of Veterans, may be disclosed to other Federal agencies for purposes of conducting computer matches, to obtain information to determine or verify eligibility of Veterans who are receiving VA medical care under relevant sections of Title 38 U.S.C.

[FR Doc. E9-20906 Filed 8-28-09; 8:45 am]

BILLING CODE P